DEPARTMENT OF HOMELAND SECURITY

Transportation Security Administration

Intent To Request Approval From OMB of One New Public Collection of Information: Baseline Assessment for Security Enhancement (BASE) Program

AGENCY: Transportation Security Administration, DHS.

ACTION: 60-day notice.

SUMMARY: The Transportation Security Administration (TSA) invites public comment on a new Information Collection Request (ICR) abstracted below that we will submit to the Office of Management and Budget (OMB) for approval in compliance with the Paperwork Reduction Act (PRA). The ICR describes the nature of the information collection and its expected burden. This voluntary collection allows TSA to conduct transportation security-related assessments during site visits with security and operating officials of transit agencies.

DATES: Send your comments by April 18, 2011.

ADDRESSES: Comments may be emailed to TSAPRA@dhs.gov or delivered to the TSA PRA Officer, Office of Information Technology (OIT), TSA-11, Transportation Security Administration, 601 South 12th Street, Arlington, VA 20598-6011.

FOR FURTHER INFORMATION CONTACT: Joanna Johnson at the above address, or by telephone (571) 227-3651.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Purpose of Data Collection

Approximately 6,000 transit service providers, commuter railroads, and long distance passenger railroad providers operate in the United States.¹ Mass transit and passenger rail systems provide transportation services through buses, rail transit, long-distance rail, and other, less common types of service (cable cars, inclined planes, funiculars, and automated guideway systems). These systems can also include “demand response services” for seniors and persons with disabilities, as well as vanpool/rideshare programs and taxi services operated under contract with a public transportation agency.

¹ TSA, “Transportation Sector-Specific Plan Mass Transit Modal Annex,” page 4 (May 2007).

TSA is required to “assess the security of each surface transportation mode and evaluate the effectiveness and efficiency of current Federal Government surface transportation security initiatives.” EO 13416, section 3(a) (Dec. 5, 2006). While many transit systems have security and emergency response plans or protocols in place, no single database exists, nor is there a consistent approach to evaluating the extent to which security programs are in place across mass transit systems.

TSA developed the Baseline Assessment for Security Enhancement (BASE) to evaluate the status of security and emergency response programs on transit systems throughout the nation. In particular, a BASE review assesses the security measures of mass transit and passenger rail systems and gathers data used by TSA to address its responsibilities, such as evaluating “effectiveness and efficiency of current Federal Government surface transportation security initiatives” and developing modal specific annexes to the Transportation Systems Sector Specific Plan that include “an identification of existing security guidelines and requirements and any security gaps * * *.” EO 13416, Sec. 3(c)(i). Reflecting its risk-based prioritization, TSA primarily conducts BASE reviews on the top 100 transit systems in the country, as identified by the Federal Transit Administration (FTA).²

² A current list of the top 100 transit systems can be viewed on the National Transit Database Web site at http://www.ntdprogram.gov/ntdprogram/.

Description of Data Collection

TSA's Surface Transportation Security Inspectors (STSIs) conduct BASE reviews during site visits with security and operating officials of transit systems. The STSIs capture and document relevant information using a standardized electronic checklist. Advance coordination and planning ensures the efficiency of the assessment process. As part of this, transit systems may also obtain a checklist in advance from TSA and conduct self-assessments of their security readiness. All BASE reviews are done on a voluntary basis.

The BASE checklist guides the collection of information and encompasses review of security plans, programs, and procedures employed by transit agencies in implementing the recommended Action Items. During a review, STSIs collect information from the review of transit system's documents, plans, and procedures; interviews with appropriate transit agency personnel, to gain process insight; and system observations prompted by questions raised during the document review and interview stages. TSA subject matter experts can then analyze this information. If information in completed assessments meets the requirements of 49 CFR parts 15 and 1520 in that disclosure would be detrimental to the security of transportation, TSA designates and marks the data as “Sensitive Security Information,” as appropriate, and protects it in accordance with the requirements set forth in those regulations.

Use of Results

A BASE review evaluates a transit agency's security program components using a two-phased approach: (1) Field collection of information, and (2) analysis/evaluation of collected information. The information collected by TSA through BASE reviews strengthens the security of transit systems by supporting security program development (including grant programs) and the analysis/evaluation provides a consistent road map for mass transit systems to address security and emergency program vulnerabilities. In addition, each transit system that undergoes a BASE assessment is provided with a report of results that is used in security enhancement activities.

Specifically, the information collected will be used as follows:

1. To develop a baseline understanding of a transit agency's security and emergency management processes, procedures, policies, programs, and activities against security requirements and recommended security practices published by TSA and FTA.

2. To enhance a transit agency's overall security posture through collaborative review and discussion of existing security activities, identification of areas of potential weakness or vulnerability, and development of remedial recommendations and courses of action.

3. To identify programs and protocols implemented by a transit agency that represent an “effective” or “smart” security practice warranting sharing with the transit community as a whole to foster general enhancement of security in the mass transit mode.

4. To inform TSA's development of security strategies, priorities, and programs for the most effective application of available resources, including funds distributed under the Transit Security Grant Program, to enhance security in the Nation's mass transit system.

While TSA has not set a limit on the number of BASE reviews to conduct, TSA estimates it will conduct approximately 100 BASE reviews on an annual basis and does not intend to conduct more than one BASE review per transit system in a single year. The total hour burden dedicated to the assessment and collection of security-related documents for review varies depending upon the size of the system and scope of its security program and activities. The hours estimated represent a sampling of BASE reviews completed in 2010. The sampling was derived from 15 transit agencies varying in size from small to large. Actual inspection hours were utilized in the sampling. TSA estimates that the hour burden per transit agency to engage their security and/or operating officials with inspectors in the interactive BASE review process is approximately 18 hours for a small transit agency, approximately 144 hours for a large transit agency, or an average of 46 hours for a moderately-sized agency. Thus, the total annual hour burden for the BASE review (140 agencies identified) is estimated on the low end of 2520 hours (140 × 18 = 2520) annually and the high end of 6440 hours (140 × 46 = 6440) annually. This number will most likely increase as transit agencies volunteer to participate.

Issued in Arlington, Virginia, on February 11, 2011.
Joanna Johnson,
TSA Paperwork Reduction Act Officer, Office of Information Technology.

[FR Doc. 2011-3602 Filed 2-16-11; 8:45 am]

BILLING CODE 9110-05-P